DEPARTMENT OF TRANSPORTATION

Federal Aviation Administration

Environmental Impact Statement; Taos Regional Airport, Taos, NM

AGENCY: Federal Aviation Administration (FAA); DOT.

ACTION: Notice of availability of Record of Decision.

SUMMARY: The FAA is issuing this notice to advise the public that we have prepared a Record of Decision (ROD) for the “Taos Regional Airport, Airport Layout Plan Improvements” Environmental Impact Statement (EIS). The Town of Taos, owner and operator of Taos Regional Airport located in Taos, New Mexico, has requested the FAA to approve revisions to its Airport Layout Plan (ALP) to reflect and allow construction of a new runway and other associated airport projects; the Town is requesting Federal funding for the project. This ROD sets forth FAA's final determination and environmental approvals for the federal actions necessary to implement the proposed airport improvements under Alternative 2D, the FAA's selected alternative, and the Airport Sponsor to proceed with processing an application for federal funding.

FOR FURTHER INFORMATION CONTACT: DOT/FAA Southwest Region, Dean McMath, Regional Environmental Programs, Manager, ASW613, 2601 Meacham Boulevard, Fort Worth, Texas 76137, telephone (817) 222-5617.

SUPPLEMENTARY INFORMATION: The Town of Taos, as owner and operator of SKX requested FAA to approve revisions to its Airport Layout Plan (ALP) and provide funding for a proposed new Runway 12/30 measuring 8,600-foot by 100-foot, a full length parallel taxiway, runway lighting, navigational aids, runway safety areas (RSA), runway protection zones, associated grading, drainage, utility relocations, installation of a Remote Transmitter/Receiver, shortening of the existing Runway 4/22 by 420 feet to the northeast with an associated shift of the RSA Runway Object Free Area (ROFA), and Runway Protection Zone (RPZ), establishment of new flight procedures for both runways, construction of a new airport access road, and extension of the existing airport access road from the existing automobile parking lot to the Fixed Base Operator hangar/terminal. The purpose of the proposed improvements is to correct the operational deficiencies of the existing runway system at SKX and improve safety of the operating environment at the airport.

The Draft and Final EIS were prepared in compliance with the National Environmental Policy Act of 1969 (NEPA), [42 U.S.C. 4321, et seq.], the implementing regulations of the Council on Environmental Quality (CEQ) [40 CFR parts 1500-15081, and FAA directives [Order 1050.1E and Order 5050.4B]. The Taos Pueblo and National Park Service served as cooperating agencies in preparation of the EIS. The Environmental Protection Agency (EPA) published a notice of availability of the Final EIS in the Federal Register on June 29, 2012.

In accordance with CEQ regulations, the ROD discusses the alternatives considered for the project; the basis for selecting the Preferred Alternative, a summary of impacts; and mitigation measures for the Preferred Alternative. The ROD documents the final Agency decisions regarding the proposed project as described and analyzed in the EIS. The FAA is granting approval to amend the ALP with the conditions noted in Section 9.7 of the ROD and approval to proceed with processing an application for federal funding of those development items qualifying for financial aid under the Airports Improvement Program (AlP).

The ROD is available for review during normal business hours at the following locations: FAA Southwest Regional Office, 2601 Meacham Boulevard, Fort Worth, Texas 76137-4298, Taos Regional Airport, Highway 64 West, 1 Airport Road, Taos, New Mexico 87571, Taos Town Hall, 400 Camino de la Placita, Taos, New Mexico 87571 and Taos Public Library, 402 Camino de la Placita, Taos, New Mexico 87571.

Issued on September 20, 2012.
Kelvin L. Solco,
Manager, Airports Division.

[FR Doc. 2012-23830 Filed 9-27-12; 8:45 am]

BILLING CODE 4910-13-P